DEPARTMENT OF DEFENSE

Department of the Army

Mandatory Use of US Bank's Power Track System by Department of Defense Personal Property Transportation Service Providers (TSPs)

AGENCY: Department of the Army, DOD.

ACTION: Notice.

SUMMARY: The Military Surface Deployment and Distribution Command (SDDC), as the Traffic Manager for Department of Defense (DOD) Personal Property Program, is informing the TSP community of SDDC's mandatory requirement to use US Bank's PowerTrack System as the transaction and payment system for all DOD TSP's handling personal property. Furthermore, the use of SDDC's Centralized Web Application (CWA) will also be mandatory. This mandatory usage is effective 30 days from publication of this notice beginning with all TSP's who have a Letter of Intent (LOI) on file with participating sites. Each time a new site is added to Phase I, TSPs not participating in Phase I will have 30 days to execute a Trading Partner Agreement with USBank and be PowerTrack certified. Implementation of PowerTrack at all Military Services and Coast Guard installations is the goal of Families First, which is the first step in moving toward the reengineered Personal Property Program of the future.

This announcement is a follow-on to Federal Register notices published on June 5, 2003 (68 FR 33683) and September 29, 2003 (68 FR 55947) proposing mandatory use of US Bank's Power Track System by Department of Defense Personal Property Transportation Service Providers. Effective 30 days from publication of this notice, they are required to have a Trading Partner Agreement with US Bank and be PowerTrack certified in order to participate in the DoD Personal Property Program. This notice affords TSP's ample time to plan for the use of PowerTrack. The Electronic Billing and Payment portion of the Families First Web site is located at http://www.sddc.army.mil, under Personal Property Program. This site offers industry access to updates on the Business Rules, Concept of Operations (CONOPS), System Interface Specifications and the latest information.

DATES: The initial rollout of PowerTrack and CWA to all sites began on March 29, 2004 and is scheduled to continue until June 30, 2005. The Evaluation Phase of Phase I ran from March 29, 2004 to September 22, 2004.

ADDRESSES: Request for additional information may be sent by e-mail to: thomasg@sddc.army.mil; or by courier to: Military Surface Deployment Distribution Command, ATTN: SDPP-PD, Room 10N35-39 (George Thomas), Hoffman Building II, 200 Stovall Street, Alexandria, VA 22332-5000.

FOR FURTHER INFORMATION CONTACT: Mr. George Thomas at (703) 428-2237.

SUPPLEMENTARY INFORMATION: The initial rollout (see DATES) served as the Evaluation Period for the Phase I process, and involved a limited number of Personal Property Shipping Office's (PPSO) and TSP's. The implementation Phase started in March 2004 and expansion to the remaining PPSO's and TSP's is scheduled for completion on or about June 30, 2005.

New sites are added to Phase I on an ongoing basis. All TSPs who have LOIs on file at these added sites are required to become PowerTrack certified and participate as Phase I TSPs effective 30 days from the date the site is added to Phase I. An updated list of all Phase I participating sites is located on the SDDC Web site. It is important to note that during this period, the participating TSPs will continue to receive the 1% PowerTrack Surcharge reimbursement fee until International Winter 05 (IW05) and Domestic Winter 05 (DW05) or Defense Future Personal Property (DPS) Rates are in effect. The Rate Solicitation for both IW05 and DW05 will be available to TSPs on March 15, 2005 and the rate filing period is scheduled for May 1, 2005 to July 15, 2005 with an effective date of October 1, 2005 for both cycles. For this reason, TSPs should file their rates for the IW05 and DW05 Winter Cycle and DPS assuming that PowerTrack and CWA will be used. DPS rates will be filed August 1-31, 2005 with an effective date of October 1, 2005.

Transportation Service Providers wishing to transport personal property shipments for the DOD must have a Trading Partner agreement with US Bank and be PowerTrack certified for the electronic payment of commercial transportation services. It is important that TSPs begin the PowerTrack certification process immediately by calling US Bank at 1-800-417-1844. Additional information on PowerTrack is available at http://www.usbank.com/powertrack. Only those TSPs that are PowerTrack certified will be eligible to receive personal property shipments.

I. Background

On July 7, 1997, the Under Secretary of Defense (Comptroller) issued a memorandum, which required the reengineering of defense transportation documentation and financial processes as part of an effort to revolutionize DOD business practices across all Military Services and Agencies. A major component of the reengineering effort is the implementation of US Bank's PowerTrack System. PowerTrack has now been implemented for DOD freight and personal property shipments for all modes of transportation. In June 2002, the USTRANSCOM Personal Property report was released, and USTRANSCOM directed that work begin on the future Personal Property program. USTRANSCOM tasked SDDC, in conjunction with the Military Services and Industry, to map out Families First by August 31, 2002. As a part of the Families First effort, DOD declared that PowerTrack would be utilized as the commercial business-to-business payment system.

To begin moving forward with Families First, SDDC developed a Concept of Operation (CONOPS) outlining the implementation of Phase I. Key elements of Phase I CONOPS are electronic bill payment and the CWA. The CWA will be used for approval authorization and for costing shipments, based on the current Military Rate Tender.

II. Objective

The objective of Phase I is to implement the electronic bill payment portion of Families First for all Military Installations and DOD approved TSPs. The electronic bill payment processes for Phase I will:

• Use US Bank's PowerTrack system to pay Transportation Service Providers;

• Use CWA as a tool to track and approve services performed by Transportation Service Providers; and

• Provide information visibility for Stakeholders (Personal Property Shipping Offices, Military Services, U.S. Coast Guard, General Service Administration, Transportation Service Providers, etc.).

Regulation Flexibility Act

This action is not considered rule making within the meaning of Regulatory Flexibility Act, 5 U.S.C. 601-612.

Paperwork Reduction Act

The Paperwork Reduction Act, 44 U.S.C. 3051 et seq., does not apply because no information collection or record keeping requirements are imposed on contractors, offerors or members of the public.

Thomas Hicks,
Chief, Personal Property Division.

[FR Doc. 05-2052 Filed 2-2-05; 8:45 am]

BILLING CODE 3710-08-M